CONSUMER PRODUCT SAFETY COMMISSION

[Docket No. CPSC-2010-0038]

Agency Information Collection Activities; Proposed Collection; Comment Request; Third Party Testing of Children's Products

AGENCY: Consumer Product Safety Commission.

ACTION: Notice.

SUMMARY: As required by the Paperwork Reduction Act of 1995 (44 U.S.C. Chapter 35), the Consumer Product Safety Commission (“CPSC” or “Commission”) requests comments on a proposed extension of approval of a collection of information for Third Party Testing of Children's Products, approved previously under OMB Control No. 3041-0159. The Commission will consider all comments received in response to this notice before requesting an extension of this collection of information from the Office of Management and Budget (“OMB”).

DATES: Submit written or electronic comments on the collection of information by January 15, 2016.

ADDRESSES: You may submit comments, identified by Docket No. CPSC-2010-0038, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions by mail/hand delivery/courier to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number CPSC-2010-0038, into the “Search” box, and follow the prompts.

FOR FURTHER INFORMATION CONTACT: Robert H. Squibb, Consumer Product Safety Commission, 4330 East West Highway, Bethesda, MD 20814; (301) 504-7815, or by email to: rsquibb@cpsc.gov.

SUPPLEMENTARY INFORMATION: CPSC seeks to renew the following currently approved collection of information:

Title: Third Party Testing of Children's Products.

OMB Number: 3041-0159.

Type of Review: Renewal of collection for third party testing of children's products and inclusion of the previously approved burden for marking and labeling of durable infant and toddler products into this collection of information.

General Description of Collection

Testing and Certification: On November 8, 2011, the Commission issued two rules for implementing third party testing and certification of children's products, as required by section 14 of the Consumer Product Safety Act (“CPSA”):

• Testing and Labeling Pertaining to Product Certification (76 FR 69482, codified at 16 CFR part 1107; “the testing rule”); and

• Conditions and Requirements for Relying on Component Part Testing or Certification, or Another Party's Finished Product Testing or Certification to Meet Testing and Certification Requirements (76 FR 69547, codified at 16 CFR part 1109; “the component part rule”).

The testing rule establishes requirements for manufacturers to conduct initial third party testing and certification of children's products, testing when there has been a material change in the product, continuing testing (periodic testing), and guarding against undue influence. A final rule on Representative Samples for Periodic Testing of Children's Products (77 FR 72205, Dec. 5, 2012) amended the testing rule to require that representative samples be selected for periodic testing of children's products.

The component part rule is a companion to the testing rule that is intended to reduce third party testing burdens by providing all parties involved in the required testing and certifying of children's products the flexibility to conduct or rely upon testing where it is the easiest and least expensive. Certification of a children's product can be based upon one or more of the following: (a) Component part testing; (b) component part certification; (c) another party's finished product testing; or (d) another party's finished product certification.

Records required by the testing rule and the rule on selecting representative samples appear in 16 CFR 1107.26. Required records include a certificate, and records documenting third party testing and related sampling plans. These requirements largely overlap the recordkeeping requirements in the component part rule, codified at 16 CFR 1109.5(g). Duplicate recordkeeping is not required; records need to be created and maintained only once to meet the applicable recordkeeping requirements. The component part rule also requires records that enable tracing a product or component back to the entity that had a product tested for compliance, and also requires attestations of due care to ensure test result integrity.

Section 104 Rules: The Commission has issued 14 rules for durable infant and toddler products under section 104 of the Consumer Product Safety Improvement Act of 2008 (“CPSIA”) (“section 104 rules”). Section 104 rules issued to date appear in Table 1. Each section 104 rule contains requirements for marking, labeling, and instructional literature:

• Each product and the shipping container must have a permanent label or marking that identifies the name and address (city, state, and zip code) of the manufacturer, distributor, or seller.

• A permanent code mark or other product identification shall be provided on the infant carrier and its package or shipping container, if multiple packaging is used. The code will identify the date (month and year) of manufacture and permit future identification of any given model.

Each standard also requires products to include easy-to-read and understand instructions regarding assembly, maintenance, cleaning, use, and adjustments, where applicable.

OMB has assigned control numbers for the estimated burden to comply with marking and labeling requirements in each section 104 rule. With this renewal, CPSC is moving the marking and labeling burden requirements for section 104 rules into the collection of information for Third Party Testing of Children's Products. The paperwork burdens associated with the section 104 rules are appropriately included in the collection for Third Party Testing of Children's Products because all of the section 104 products are also required to be third party tested. Having all of the burden hours under one collection for children's products provides one OMB control number and eases the administrative burden of renewing multiple collections. CPSC will discontinue using the OMB control numbers currently assigned to individual section 104 rules. The discontinued OMB control numbers are listed in Table 1.

Frequency of Response: On occasion.

Affected Public: Manufacturers and importers of children's products subject to a children's product safety rule.

Estimated Number of Respondents

Testing and Certification: CPSC reviewed every category in the NAICS and selected categories that included firms that could manufacture or sell any consumer product that could be covered by a consumer product safety rule. Using data from the U.S. Census Bureau, we determined that there were approximately 34,000 manufacturers, about 77,000 wholesalers, and about 133,000 retailers in these categories. However, these categories also include many non-children's products, which are not covered by any children's product safety rules. Therefore, these numbers would constitute an overestimate of the number of firms that are subject to the recordkeeping requirements.

Section 104 Rules: Table 1 summarizes the durable infant and toddler products subject to the marking and labeling requirements being moved into OMB control number 3041-0159.

Table 1—Estimated Burden for Marking and Labeling in Section 104 Rules
Discontinued OMB Control No. | 16 CFR part | Description | Mfrs. | Models | Total respondent hours
3041-0145 | 1215 | Safety Standard for Infant Bath Seats | 7 | 2 | 14
3041-0141 | 1216 | Safety Standard for Infant Walkers | 16 | 4 | 64
3041-0150 | 1217 | Safety Standard for Toddler Beds | 78 | 10 | 780
3041-0157 | 1218 | Safety Standard for Bassinets and Cradles | 62 | 5 | 310
3041-0147 | 1219 | Safety Standard for Full-Size Cribs | 78 | 11 | 858
3041-0147 | 1220 | Safety Standard for Non-Full-Size Cribs | 24 | 4 | 96
3041-0152 | 1221 | Safety Standard for Play Yards | 31 | 4 | 124
3041-0160 | 1222 | Safety Standard for Infant Bedside Sleepers | 5 | 2 | 10
3041-0155 | 1223 | Safety Standard for Swings | 10 | 11 | 110
3041-0149 | 1224 | Safety Standard for Portable Bedrails | 17 | 2 | 34
3041-0158 | 1225 | Safety Standard for Hand-Held Infant Carriers | 71 | 2 | 142
3041-0162 | 1226 | Safety Standard for Soft Infant and Toddler Carriers | 54 | 2 | 108
3041-0164 | 1227 | Safety Standard for Carriages and Strollers | 85 | 8 | 680
3041-0166 | 1230 | Safety Standard for Frame Child Carriers (not effective until 9/2016) | 16 | 3 | 48
Total Burden Hours |  |  |  |  | 3,378

Estimated Time per Response

Testing and Certification: Based on comments received during rulemaking for the testing rule, we estimate recordkeeping for approximately 300,000 non-apparel children's products per year, with an average of 5 hours of recordkeeping burden associated with each product. We also estimate recordkeeping for approximately 1.3 million children's apparel and footwear products per year, with an average of 3 hours of recordkeeping burden associated with each product. Manufacturers that are required to conduct periodic testing have an additional recordkeeping burden estimated at 4 hours per representative sampling plan.

Section 104 Rules: Each section 104 rule contains a similar analysis for marking and labeling that estimates the time to make any necessary changes to marking and labeling requirements at one hour per model.

Total Estimated Annual Burden

Testing and Certification: The total estimated annual burden for recordkeeping associated with the testing rule is 5.4 million hours (300,000 non-apparel children's products × 5 hours per non-apparel children's product + 1,300,000 children's apparel products × 3 hours per children's apparel product = 1.5 million hours + 3.9 million hours, or a total of 5.4 million hours).

Representative Sampling Plans for Periodic Testing: We estimate that if each product line averages 50 individual models or styles, then a total of 32,000 individual representative sampling plans (1.6 million children's products ÷ 50 models or styles) would need to be developed and documented. This would require 128,000 hours (32,000 plans × 4 hours per plan). If each product line averages 10 individual models or styles, then a total of 160,000 different representative sampling plans (1.6 million children's products ÷ 10 models or styles) would need to be documented. This would require 640,000 hours (160,000 plans × 4 hours per plan). Accordingly, the requirement to document the basis for selecting representative samples could increase the estimated annual burden by up to 640,000 hours.

Component Part Testing: The component part rule shifts some testing costs and some recordkeeping costs to component part and finished product suppliers because some testing will be performed by these parties rather than by the finished product certifiers (manufacturers and importers). Even if a finished product certifier can rely entirely on component part and finished product suppliers for all required testing, however, the finished product supplier will still have some recordkeeping burden to create and maintain a finished product certificate. Therefore, although the component part testing rule may reduce the total cost of the testing required by the testing and certification rule, the rule increases the estimated annual recordkeeping burden for those who choose to use component part testing.

Because we do not know how many companies participate in component part testing and supply test reports or certifications to other certifiers in the supply chain, we have no concrete data to estimate the recordkeeping and third party disclosure requirements in the component part rule. Likewise, no clear method exists for estimating the number of finished product certifiers who conduct their own component part testing. In the component part rulemaking, we suggested that the recordkeeping burden for the component part testing rule could amount to 10 percent of the burden estimated for the testing and labeling rule. 76 FR 69546, 69579 (Nov. 8, 2011). Currently, we have no basis to change this estimate.

In addition to recordkeeping, the component part rule requires third party disclosure of test reports and certificates, if any, to a certifier who intends to rely on such documents to issue its own certificate. Without data, allocation of burden estimation between the recordkeeping and third party disclosure requirements is difficult. However, based on our previous analysis, we continue to estimate that creating and maintaining records accounts for approximately 90 percent of the burden, while the third party disclosure burden is much less, perhaps approximately 10 percent. Therefore, if we continue to use the estimate that component part testing will amount to about 10 percent of the burden estimated for the testing rule, then the hour burden of the component part rule is estimated to be about 540,000 hours total annually (10% of 5.4 million hours); allocating 486,000 hours for recordkeeping and 54,000 hours for third party disclosure.

Section 104 Rules: The burden for marking and labeling for each section 104 rule is provided in Table 1. The estimated total number of respondent hours is 3,378.

Request for Comments

The Commission solicits written comments from all interested persons about the proposed renewal of this collection of information. The Commission specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic or other technological collection techniques, or other forms of information technology.

Dated: November 9, 2015.
Todd A. Stevenson,
Secretary, Consumer Product Safety Commission.

[FR Doc. 2015-28845 Filed 11-13-15; 8:45 am]

BILLING CODE 6355-01-P